CONSUMER PRODUCT SAFETY COMMISSION

Agency Information Collection Activities; Proposed Collection; Comment Request; Requirements for Full-Size Baby Cribs

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information, including each proposed extension of an existing collection of information, and to allow 60 days for public comment in response to the notice. This notice solicits comments on a proposed collection of information on recordkeeping requirements under the safety regulations for full-size baby cribs.

DATES: Submit written or electronic comments on the collection of information by August 27, 2010.

ADDRESSES: Written comments should be captioned “Proposed Collection—Full-Size Cribs” and sent by e-mail to cpsc-os@cpsc.gov. Comments may also be sent by facsimile to (301) 504-0127, or by mail to the Office of the Secretary, Consumer Product Safety Commission, 4330 East West Highway, Bethesda, Maryland 20814.

FOR FURTHER INFORMATION CONTACT: Linda L. Glatz, Division of Policy and Planning, Office of Information Technology, Consumer Product Safety Commission, 4330 East West Highway, Bethesda, MD 20814, (301) 504-7671, lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information including each proposed extension of an existing collection of information, before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Title: Requirements for Full-Size Baby Cribs—16 CFR part 1508 and 16 CFR 1500.18(a)(13) (OMB Control Number 3041-0013—Extension). The safety regulations for full-size baby cribs (also referred to as “full-size cribs”) are codified at 16 CFR part 1508 and 16 CFR 1500.18(a)(13). These regulations were issued to reduce hazards of strangulation, suffocation, pinching, bruising, laceration, and other injuries associated with full-size cribs. (Full-size cribs have specific interior dimensions, 28 ± ⅝ inches (71 ± 1.6 centimeters) wide by 52⅜ ± ⅝ inches (133 ± 1.6 centimeters) long). The regulations prescribe performance, design, and labeling requirements for full-size cribs. They also require manufacturers and importers of those products to maintain sales records for a period of three years after the manufacture or importation of full-size cribs. If any full-size cribs subject to provisions of 16 CFR 1500.18(a)(13) and part 1508 fail to comply in a manner to warrant a recall, the required records can be used by the manufacturer or importer and by the Commission to identify those persons and firms who should be notified of the recall. The Commission will consider all comments received in response to this notice before requesting approval of this collection of information from OMB.

Estimated Burden: Approximately 75 firms manufacture or import full-size baby cribs and are subject to the recordkeeping requirements. The Commission staff estimates that the recordkeeping will take five hours per firm for obtaining the information from existing sales and distribution data. The annualized cost to respondents for the burden of collection of information is $10,417.50 based on 375 hours (75 firms × 5 hours each) multiplied by a cost of $27.78 per hour (Bureau of Labor Statistics, Total Compensation, All workers, goods-producing industries, Sales and office, September 2009, Table 9).

The cost to the government (wages and benefits) for 37.5 hours staff time to review the information (½ hour per firm) is approximately $3,071. Assuming that the employee reviewing the records will be a GS-14 level employee, the average hourly wage rate for a mid-level GS-14 employee in the Washington, DC metropolitan area, effective as of January 2010, is $57.33. This represents 70 percent of total compensation (Bureau of Labor Statistics, March 2010, percentage wages and salaries for all civilian management, professional, and related employees, Table 1). Adding an additional 30 percent for benefits brings average hourly compensation for a mid-range GS-14 employee to $81.89. Thus, 37.5 hours multiplied against an hourly compensation figure of $81.89 results in an estimated cost to the government of $3,070.87, which we have rounded up to $3,071.

Dated: June 22, 2010.
Todd A. Stevenson,
Secretary, Consumer Product Safety Commission.

[FR Doc. 2010-15513 Filed 6-25-10; 8:45 am]

BILLING CODE P